DEPARTMENT OF HEALTH AND HUMAN SERVICES

Centers for Medicare & Medicaid Services

Privacy Act of 1974, CMS Computer Match No. 2016-14, HHS Computer Match No. 1608

AGENCY: Centers for Medicare & Medicaid Services (CMS), Department of Health and Human Services (HHS).

ACTION: Notice of Computer Matching Program (CMP).

SUMMARY: In accordance with the requirements of the Privacy Act of 1974, as amended, this notice announces the establishment of a CMP that CMS plans to conduct with the Office of Personnel Management (OPM).

DATES: Effective Dates: Comments are invited on all portions of this notice. Public comments are due within 30 days after publication. The matching program will become effective no sooner than 40 days after the report of the matching program is sent to the Office of Management and Budget (OMB), 30 days after a copy of the matching agreement is transmitted to Congress, or 30 days after the report of the matching program is published in the Federal Register, whichever is later.

For Information Contact: The public should send comments to: CMS Privacy Act Officer, Division of Security, Privacy Policy & Governance, Information Security & Privacy Group, Office of Enterprise Information, CMS, Room Nl-24-08, 7500 Security Boulevard, Baltimore, Maryland 21244-1850. Comments received will be available for review at this location, by appointment, during regular business hours, Monday through Friday from 9:00 a.m.-3:00 p.m., Eastern Time zone.

FOR FURTHER INFORMATION CONTACT: Lindsey Murtagh, Center for Consumer Information and Insurance Oversight, Centers for Medicare & Medicaid Services, Phone: (301) 492-4106, E-Mail: lindsey.murtagh@cms.hhs.gov.

SUPPLEMENTARY INFORMATION: The Computer Matching and Privacy Protection Act of 1988 (Public Law (Pub. L) 100-503), amended the Privacy Act (5 U.S.C. 552a) by describing the manner in which computer matching involving Federal agencies could be performed and adding certain protections for individuals applying for and receiving Federal benefits. Section 7201 of the Omnibus Budget Reconciliation Act of 1990 (Pub. L. 101-508) further amended the Privacy Act regarding protections for such individuals. The Privacy Act, as amended, regulates the use of computer matching by Federal agencies when records in a system of records are matched with other Federal, state, or local government records. It requires Federal agencies involved in computer matching programs (CMP) to:

1. Negotiate written agreements with the other agencies participating in the matching programs;

2. Obtain the Data Integrity Board approval of the match agreements;

3. Furnish detailed reports about matching programs to Congress and OMB;

4. Notify applicants and beneficiaries that the records are subject to matching; and,

5. Verify match findings before reducing, suspending, terminating, or denying an individual's benefits or payments.

This matching program meets the requirements of the Privacy Act of 1974, as amended.

Walter Stone,
CMS Privacy Act Officer, Centers for Medicare & Medicaid Services.

CMS Computer Match No. 2016-14

HHS Computer Match No.1608

Name

“Computer Matching Agreement between the Department of Health and Human Services, Centers for Medicare & Medicaid Services and the Office of Personnel Management For The Verification of Eligibility For Minimum Essential Coverage Under the Patient Protection and Affordable Care Act Through an Office of Personnel Management Health Benefits Plan.”

Security Classification

Unclassified.

Participating Agencies

Department of Health and Human Services (HHS), Centers for Medicare & Medicaid Services (CMS), and the Office of Personnel Management (OPM).

Authority for Conducting Matching Program

Sections 1411 and 1413 of the Patient Protection and Affordable Care Act of 2010 (Public Law 111-148), as amended by the Health Care and Education Reconciliation Act of 2010 (Public Law 111-152) (collectively, the ACA) require the Secretary of HHS to establish a program for applying for and determining eligibility for advance payments of the premium tax credit and cost-sharing reductions and authorize use of secure, electronic interfaces and an on-line system for the verification of eligibility.

The Computer Matching and Privacy Protection Act of 1988 (CMPPA) (Public Lawl00-503), amended the Privacy Act (5 U.S.C. 552a) and requires the parties participating in a matching program to execute a written agreement specifying the terms and conditions under which the matching will be conducted. CMS has determined that status verification checks to be conducted through the CMS Data Services Hub (Hub) by agencies administering applicable State health subsidy programs using the Enterprise Human Resources Integration Data Warehouse (EHRIDW) Status File provided to CMS by OPM constitute a “computer matching program” as defined in the CMPPA.

Purpose(s) of the Matching Program

The purpose of the Computer Matching Agreement is to establish the terms, conditions, safeguards, and procedures under which OPM will provide records, information, or data to CMS for verifying eligibility for Minimum Essential Coverage through an OPM Federal Employees Health Benefits Plan. The data will be used by CMS in its capacity as a Federally-facilitated Exchange, and agencies administering applicable State health subsidy programs that will receive the results of verifications using OPM data obtained through the CMS Data Services Hub.

Data will be matched for the purpose of verifying an Applicant or Enrollee's eligibility for OPM Federal Employees Health Benefit Plans that constitute minimum essential coverage as defined in 5000A(f) of the Internal Revenue Code of 1986, 26 U.S.C. 5000A, as amended by 1501 of the ACA.

Description of Records To Be Used in the Matching Program

The CMP will be conducted with data maintained by CMS in the Health Insurance Exchanges (HIX) Program, CMS System No. 09-70-0560, as amended. The system is described in System of Records Notice (SORN) published at 78 Federal Register (FR) 63211 (Oct. 23, 2013).

The OPM System of Records for this matching program is titled “General Personnel Records” (OPM/GOVT-1), published at 77 Federal Register, 73694 (December 11, 2012). OPM will submit to CMS a monthly Status File that is a full refresh of all Federal employee health care insurance information. OPM also will submit to CMS, on an annual basis, a Premium Spread Index File that provides information identifying the lowest self-only premium for an OPM FEHB plan available to a Federal employee in each State as well as national OPM FEHB plans.

Inclusive Dates of the Match

The CMP will become effective no sooner than 40 days after the report of the matching program is sent to 0MB, 30 days after a copy of the matching agreement is transmitted to Congress, or 30 days after publication in the Federal Register, whichever is later. The matching program will continue for 18 months from the effective date and may be extended for an additional 12 months thereafter, if certain conditions are met.

[FR Doc. 2016-24387 Filed 10-7-16; 8:45 am]

BILLING CODE 4120-03-P